DEPARTMENT OF TRANSPORTATION

Federal Aviation Administration

14 CFR Part 71

[Docket No. FAA-2020-0352; Airspace Docket No. 18-AAL-4]

RIN 2120-AA66

Amendment of Class E Airspace; Sitka, AK; Correction

AGENCY: Federal Aviation Administration (FAA), DOT.

ACTION: Final rule; correction.

SUMMARY: The Federal Aviation Administration (FAA) is correcting a final rule that appeared in the Federal Register on July 31, 2020. The rule modified Class E airspace designated as a surface area, and Class E airspace extending upward from 700 feet above the surface at Sitka Rocky Gutierrez Airport. The final rule also established a Class E airspace area, designated as an extension to a Class D or Class E surface area. The legal definition for the Class E airspace, designated as an extension to a Class D or Class E surface area, did not accurately establish this area outside of the Class E airspace designated as a surface area. This action corrects the legal definition for the Class E airspace area, designated as an extension to a Class D or Class E surface area.

DATES: Effective 0901 UTC, November 5, 2020. The Director of the Federal Register approves this incorporation by reference action under Title 1 Code of Federal Regulations part 51, subject to the annual revision of FAA Order 7400.11 and publication of conforming amendments.

FOR FURTHER INFORMATION CONTACT: Matthew Van Der Wal, Federal Aviation Administration, Western Service Center, Operations Support Group, 2200 S. 216th Street, Des Moines, WA 98198; telephone (206) 231-3695.

SUPPLEMENTARY INFORMATION:

History

The FAA published a final rule in the Federal Register (85 FR 45997; July 31, 2020) for Docket FAA-2020-0352 amending Class E airspace designated as a surface area and Class E airspace extending upward from 700 feet above the surface. The rule also established Class E airspace designated as an extension to a Class D or Class E surface area. Subsequent to publication, the FAA identified an error in how the Class E airspace, designated as an extension to a Class D or Class E surface area, is described. This action corrects that error.

Class E4 airspace designations are published in paragraph 6004 of FAA Order 7400.11D, dated August 8, 2019, and effective September 15, 2019, which is incorporated by reference in 14 CFR 71.1. The Class E airspace designation listed in this document will be published subsequently in the Order.

Correction to Final Rule

Accordingly, pursuant to the authority delegated to me, Amendment of the Class E Airspace; Sitka, AK, published in the Federal Register of July 31, 2020 (85 FR 45997), FR Doc. 2020-16314, is corrected as follows:

§ 71.1 [Corrected]

1. On page 45997, in the third column, in The Rule, the description of the Class E airspace designated as an extension to a Class D or Class E surface area is corrected to read as follows: That airspace extending upward from the surface from the 4.1-mile radius of the airport within 4 miles north and 8 miles south of the 315° bearing from the airport, extending from 0.9 miles northwest of the airport and extending to 28.3 miles northwest of Sitka Rocky Gutierrez Airport.

§ 71.1 [Corrected]

2. On page 45998, in the first and second column, in AAL AK E4 Sitka, AK [New] the airspace legal description is corrected to read as follows: That airspace extending upward from the surface from the 4.1-mile radius of the airport within 4 miles north and 8 miles south of the 315° bearing from the airport, extending from 0.9 miles northwest of the airport and extending to 28.3 miles northwest of Sitka Rocky Gutierrez Airport.

Issued in Seattle, Washington, on August 28, 2020.
B.G. Chew,
Acting Group Manager, Western Service Center, Operations Support Group.

[FR Doc. 2020-19460 Filed 9-3-20; 8:45 am]

BILLING CODE 4910-13-P